DEPARTMENT OF ENERGY

Federal Energy Regulatory Commission

Combined Notice of Filings #1

Take notice that the Commission received the following electric rate filings:

Docket Numbers: ER22-910-003.

Applicants: Rockland Electric Company, PJM Interconnection, L.L.C.

Description: Compliance filing: Rockland Electric Company submits tariff filing per 35: Rockland Electric Company Compliance Filing in ER22-910 to be effective 8/30/2022.

Filed Date: 11/3/23.

Accession Number: 20231103-5136.

Comment Date: 5 p.m. ET 11/24/23.

Docket Numbers: ER23-2171-001.

Applicants: Tri-State Generation and Transmission Association, Inc.

Description: Tariff Amendment: Limited Amendment and Supplement to Formula Rate Filing to be effective 1/1/2024.

Filed Date: 11/3/23.

Accession Number: 20231103-5001.

Comment Date: 5 p.m. ET 11/24/23.

Docket Numbers: ER23-2359-003.

Applicants: PJM Interconnection, L.L.C.

Description: Tariff Amendment: Amendment to ISA/CSA SA Nos. 6967 & 6968; Queue AD2-100/131-Docket No. ER23-2359 to be effective 9/6/2023.

Filed Date: 11/3/23.

Accession Number: 20231103-5080.

Comment Date: 5 p.m. ET 11/24/23.

Docket Numbers: ER23-2597-001.

Applicants: PJM Interconnection, L.L.C.

Description: Tariff Amendment: Response to Commission's 10/4/23 Deficiency Letter in ER23-2597 to be effective 7/10/2023.

Filed Date: 11/3/23.

Accession Number: 20231103-5161.

Comment Date: 5 p.m. ET 11/24/23.

Docket Numbers: ER24-325-000.

Applicants: NorthWestern Corporation.

Description: § 205(d) Rate Filing: SA 767 9th Rev—NITSA with Basin Electric Power Cooperative to be effective 11/3/2023.

Filed Date: 11/3/23.

Accession Number: 20231103-5000.

Comment Date: 5 p.m. ET 11/24/23.

Docket Numbers: ER24-326-000.

Applicants: PJM Interconnection, L.L.C.

Description: § 205(d) Rate Filing: Amendment to ISA, Service Agreement No. 5797; Queue No. AC1-034 to be effective 1/2/2024.

Filed Date: 11/3/23.

Accession Number: 20231103-5028.

Comment Date: 5 p.m. ET 11/24/23.

Docket Numbers: ER24-327-000.

Applicants: Long Lake Solar, LLC.

Description: Request for Limited and Prospective Tariff Waiver, et al. of Long Lake Solar, LLC.

Filed Date: 10/31/23.

Accession Number: 20231031-5377.

Comment Date: 5 p.m. ET 11/21/23.

Docket Numbers: ER24-328-000.

Applicants: Dominion Energy South Carolina, Inc.

Description: § 205(d) Rate Filing: Concurrence Dynamic Scheduling Agreement to be effective 1/1/2024.

Filed Date: 11/3/23.

Accession Number: 20231103-5050.

Comment Date: 5 p.m. ET 11/24/23.

Docket Numbers: ER24-329-000.

Applicants: Tri-State Generation and Transmission Association, Inc.

Description: § 205(d) Rate Filing: Initial Filing of Service Agreement FERC No. 916 to be effective 1/2/2024.

Filed Date: 11/3/23.

Accession Number: 20231103-5089.

Comment Date: 5 p.m. ET 11/24/23.

Docket Numbers: ER24-330-000.

Applicants: Arizona Public Service Company.

Description: Compliance filing: FERC Order No. 2023—Compliance Filing to be effective 12/4/2023.

Filed Date: 11/3/23.

Accession Number: 20231103-5090

Comment Date: 5 p.m. ET 11/24/23.

Docket Numbers: ER24-331-000.

Applicants: PJM Interconnection, L.L.C.

Description: § 205(d) Rate Filing: Original ISA, Service Agreement No. 7125; Queue No. AE2-195 to be effective 10/6/2023.

Filed Date: 11/3/23.

Accession Number: 20231103-5095.

Comment Date: 5 p.m. ET 11/24/23.

Docket Numbers: ER24-332-000.

Applicants: Alabama Power Company, Georgia Power Company, Mississippi Power Company.

Description: § 205(d) Rate Filing: Alabama Power Company submits tariff filing per 35.13(a)(2)(iii: Carters Ford Solar LGIA Filing to be effective 10/23/2023.

Filed Date: 11/3/23.

Accession Number: 20231103-5101.

Comment Date: 5 p.m. ET 11/24/23.

Docket Numbers: ER24-333-000.

Applicants: Oak Solar, LLC.

Description: Baseline eTariff Filing: Application for Market Based Rate to be effective 12/15/2023.

Filed Date: 11/3/23.

Accession Number: 20231103-5108.

Comment Date: 5 p.m. ET 11/24/23.

Docket Numbers: ER24-334-000.

Applicants: Oak Lessee, LLC.

Description: Baseline eTariff Filing: Application for Market Base Rate to be effective 12/15/2023.

Filed Date: 11/3/23.

Accession Number: 20231103-5110.

Comment Date: 5 p.m. ET 11/24/23.

Docket Numbers: ER24-335-000.

Applicants: ATNV Energy, LP.

Description: Baseline eTariff Filing: Baseline new to be effective 1/2/2024.

Filed Date: 11/3/23.

Accession Number: 20231103-5122.

Comment Date: 5 p.m. ET 11/24/23.

Docket Numbers: ER24-336-000.

Applicants: Tucson Electric Power Company.

Description: § 205(d) Rate Filing: Service Agreement No. 535, Large Generator Interconnection Agreement to be effective 10/6/2023.

Filed Date: 11/3/23.

Accession Number: 20231103-5140.

Comment Date: 5 p.m. ET 11/24/23.

Docket Numbers: ER24-337-000.

Applicants: PJM Interconnection, L.L.C.

Description: § 205(d) Rate Filing: Original NSA, Service Agreement No. 7124; Queue No. AE2-230/AF1-291A/AF2-075 to be effective 1/3/2024.

Filed Date: 11/3/23.

Accession Number: 20231103-5152.

Comment Date: 5 p.m. ET 11/24/23.

Docket Numbers: ER24-338-000.

Applicants: Midcontinent Independent System Operator, Inc.

Description: § 205(d) Rate Filing: 2023-11-03_Revisions to credit provisions for Bankruptcy Code requirements to be effective 1/3/2024.

Filed Date: 11/3/23.

Accession Number: 20231103-5154.

Comment Date: 5 p.m. ET 11/24/23.

Docket Numbers: ER24-339-000.

Applicants: ISO New England Inc., New England Power Pool Participants Committee

Description: § 205(d) Rate Filing: ISO New England Inc. submits tariff filing per 35.13(a)(2)(iii: Changes to Delay 19th Forward Capacity Auction and Related Market Activities to be effective 1/2/2024.

Filed Date: 11/3/23.

Accession Number: 20231103-5158.

Comment Date: 5 p.m. ET 11/24/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 3, 2023.
Kimberly D. Bose,
Secretary.

[FR Doc. 2023-24836 Filed 11-8-23; 8:45 am]

BILLING CODE 6717-01-P